DEPARTMENT OF JUSTICE

Antitrust Division

Notice Pursuant to the National Cooperative Research and Production Act of 1993—Fieldbus Foundation

Notice is hereby given that, on October 20, 2011, pursuant to Section 6(a) of the National Cooperative Research and Production Act of 1993, 15 U.S.C. 4301 et seq. (“the Act”), Fieldbus Foundation (“Fieldbus”) has filed written notifications simultaneously with the Attorney General and the Federal Trade Commission disclosing (1) The name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Fieldbus Foundation, Austin, TX. More information about Fieldbus can be found at http://www.fieldbus.org/index.html. The nature and scope of Fieldbus's standards development activities are: development (by end users, manufacturers, universities and research organizations working together) of automation infrastructure that provides integrity, business intelligence and open scalable integration in a managed environment. Current Fieldbus teams for specification development and maintenance are described at: http://www.fieldbus.org/index.php?option=com_content&task=view&id=941&Itemid=454.

Additional information about Fieldbus specifications is available at: http://www.fieldbus.org/index.php?option=com_content&task=view&id=943&Itemid=310.

Patricia A. Brink,
Director of Civil Enforcement, Antitrust Division.

[FR Doc. 2011-30307 Filed 11-23-11; 8:45 am]

BILLING CODE P